FEDERAL COMMUNICATIONS COMMISSION

47 CFR Chapter I

[CB Docket No. 24-245; DA 24-782; FR ID 241932]

Possible Revision or Elimination of Rules

AGENCY: Federal Communications Commission.

ACTION: Regulatory review; comments requested.

SUMMARY: In this document, the Federal Communication Commission (FCC or Commission) invites the general public to comment on the Commission's rules to be reviewed pursuant to the Regulatory Flexibility Act of 1980. The purpose of the review is to determine whether Commission rules that the FCC adopted in calendar year 2013 should be continued without change, amended, or rescinded in order to minimize any significant impact the rule(s) may have on a substantial number of small entities. Upon receiving comments from the public, the Commission will evaluate those comments and consider whether action should be taken to rescind or amend the relevant rule(s), or retain the rule(s) without modification.

DATES: Comments may be filed on or before November 18, 2024.

ADDRESSES: You may submit comments, identified by CB Docket No. 24-245 by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (Braille, large print, electronic files, audio format), send an email to fcc504@fcc.gov or call the Consumer & Governmental Affairs Bureau at 202-418-0530.

FOR FURTHER INFORMATION CONTACT: Sharon Stewart, Women's Outreach Specialist, Office of Communications Business Opportunities, (202) 418-0994, Sharon.Stewart@fcc.gov or OCBOInfo@fcc.gov or visit www.fcc.gov/ocbo.

SUPPLEMENTARY INFORMATION: This is a synopsis of the Commission's Public Notice document in CB Docket No. 24-245, DA 24-782, released on August 9, 2024. The full version of this document can be located at https://docs.fcc.gov/public/attachments/DA-24-782A1.pdf.

Annually, the Commission will publish a list of 10-year old rules for review and comment by interested parties pursuant to section 610 of the RFA.

Synopsis

By the Public Notice document, the Office of Communications Business Opportunities announces the Federal Communications Commission's (Commission) plan to review rules the agency adopted in calendar year 2013 that have or will have a significant economic impact on a substantial number of small entities. Section 610 of the Regulatory Flexibility Act (RFA), 5 U.S.C. 610, requires the Commission to determine whether such rules should be continued without change, amended, or rescinded, consistent with the stated objectives of applicable statutes, to minimize any significant economic impact of the rules upon a substantial number of small entities. The Appendix of the Public Notice document lists the rules the Commission will review during the next 12 months. Annually, the Commission will publish a list for the review of rules promulgated 10 years preceding the year of review.

The Commission will consider the following factors in reviewing each rule in a manner consistent with section 610(b) of the RFA:

(a) The continued need for the rule;

(b) The nature of complaints or comments from the public concerning the rule;

(c) The complexity of the rule;

(d) The extent to which the rule overlaps, duplicates, or conflicts with other federal rules, and, to the extent feasible, with state and local governmental rules; and

(e) The length of time since the rule has been evaluated or the degree to which technology, economic conditions, or other factors have changed in the area affected by the rule.

The Appendix of the Public Notice document includes a brief description, the need for and legal basis of each rule. The Commission invites the general public to comment on these rules in accordance with the instructions below. The Commission will consider all relevant and timely filed comments before it takes final action in this proceeding.

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

The proceeding this document initiates shall be treated as a “permit-but-disclose” proceeding in accordance with the Commission's ex parte rules.¹ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

¹ 47 CFR 1.1200 et seq.

Federal Communications Commission.
Sanford Williams,
Deputy Managing Director, Office of Managing Director.

The Federal Communications Commission (Commission) will review the rules below pursuant to the Regulatory Flexibility Act of 1980, as amended, 5 U.S.C. 610, for the period beginning January 2013 and ending December 2013. All of the rules listed below are in Title 47 of the Code of Federal Regulations.

PART 1—PRACTICE AND PROCEDURE

Subpart A—General Rules of Practice and Procedure

Brief Description: Section 1.77 explains that the application procedures set forth in part 1 are general in nature and provides cross-references to detailed application procedures that are applicable to specific services and authorization processes.

Need: This rule is informational and is needed to help the public understand where to find the Commission's detailed application procedures under its various rule parts.

Legal Basis: 47 U.S.C. chs. 2, 5, 9, 13; 28 U.S.C. 2461.

Section Number and Title:

1.77 Detailed application procedures; cross references.

Subpart E—Complaints, Applications, Tariffs, and Reports Involving Common Carriers

Brief Description: Section 1.767 of the Commission's rules sets forth the application filing requirements for submarine cable landing licenses. During the relevant reporting period, the Commission modified certain reporting requirements applicable to licensees affiliated with a carrier with market power in a cable's World Trade Organization (WTO) Member destination market. In particular, the Commission amended section 1.767(l)(2) to retain the requirement that cable landing licensees that are affiliated with a carrier with market power in a WTO Member destination country report their circuits on those routes.

Need: This change is part of the Commission's efforts to ensure that the Commission's data collections match its data needs, but avoid unnecessary or excessive burdens on telecommunications providers.

Legal Basis: 15 U.S.C. 79 et seq.; 47 U.S.C. 151, 154(i), 154(j), 155, 157, 225, 227, 303(r), and 309, Cable Landing License Act of 1921, 47 U.S.C. 35-39, and the Middle Class Tax Relief and Job Creation Act of 2012, Pub. L. 112-96.

Section Number and Title:

1.767 (1)(2) Cable landing licenses.

Subpart F—Wireless Radio Services Applications and Proceedngs

Brief Description: Recognizing the need to review its foreign ownership policies and procedures and reduce delay, uncertainty, and expense to facilitate further investment in wireless networks, the Commission adopted rules that modified the policies and procedures that apply to foreign ownership of common carrier radio station licensees—i.e., companies that provide fixed or mobile telecommunications service over networks that employ spectrum-based technologies, either in whole or in part—pursuant to sections 310(b)(3) and 310(b)(4) of the Communications Act of 1934, as amended (the “Act”). These new measures also apply to foreign ownership of aeronautical en route and aeronautical fixed radio station licensees pursuant to section 310(b)(4) of the Act.

Need: The Commission adopted these rules to reduce the regulatory costs and burdens imposed on common carrier and aeronautical radio station applicants, licensees, and spectrum lessees; provide greater transparency and more predictability with respect to the Commission's foreign ownership filing requirements and review process; and facilitate investment from new sources of capital at a time of growing need for capital investment in this sector of the Nation's economy, while continuing to protect important interests related to national security, law enforcement, foreign policy, and trade policy.

Legal Basis: 47 U.S.C. 151, 154(i), 154(j), 155, 157, 225, 227, 303(r), 309, and 310.

Section Number and Title:

1.907 Definitions.

Brief Description: Section 1.1913 describes the application procedures that apply to applicants, licenses, and lessees in the wireless radio services.

Need: This rules furthers the Commission's fundamental statutory responsibility to assign licenses for use of the radio spectrum by describing application requirements and procedures in the wireless radio services.

Legal Basis: 47 U.S.C. chs. 2, 5, 9, 13; 28 U.S.C. 2461.

Section Number and Title:

1.913 Application and notification forms; electronic filing.

Brief Description: Recognizing the need to review its foreign ownership policies and procedures and reduce delay, uncertainty, and expense to facilitate further investment in wireless networks, the Commission adopted rules that modified the policies and procedures that apply to foreign ownership of common carrier radio station licensees—i.e., companies that provide fixed or mobile telecommunications service over networks that employ spectrum-based technologies, either in whole or in part—pursuant to sections 310(b)(3) and 310(b)(4) of the Communications Act of 1934, as amended (the “Act”). These new measures also apply to foreign ownership of aeronautical en route and aeronautical fixed radio station licensees pursuant to section 310(b)(4) of the Act.

Need: The Commission adopted these rules to reduce the regulatory costs and burdens imposed on common carrier and aeronautical radio station applicants, licensees, and spectrum lessees; provide greater transparency and more predictability with respect to the Commission's foreign ownership filing requirements and review process; and facilitate investment from new sources of capital at a time of growing need for capital investment in this sector of the Nation's economy, while continuing to protect important interests related to national security, law enforcement, foreign policy, and trade policy.

Legal Basis: 47 U.S.C. 151, 154(i), 154(j), 155, 157, 225, 227, 303(r), 309, and 310.

Section Number and Title:

1.990 [added] Citizenship and filing requirements under section 310(b) of the Communications Act of 1934, as amended.

1.991 [added] Contents of petitions for declaratory ruling under section 310(b) of the Communications Act of 1934, as amended.

1.992 [added] How to calculate indirect equity and voting interests under section 1.991.

1.993 [added] Insulation criteria for interests in limited partnerships, limited liability partnerships, and limited liability companies.

1.994 [added] Routine terms and conditions.

Subpart I—Procedures Implementing the National Environmental Policy Act of 1969

Brief Description: Section 1.1307 describe the actions that may have a significant impact on the environment and for which environmental assessments must be prepared. Section 1.1310 set for the FCC's radiofrequency radiation exposure limits.

Need: These rules allow the Commission to meet its requirements under the National Environmental Policy Act of 1969.

Legal Basis: 47 U.S.C. chs. 2, 5, 9, 13; 28 U.S.C. 2461.

Section Number and Title:

1.1307 Actions that may have a significant environmental effect, for which Environmental Assessments (EAs) must be prepared.

1.1310 Radiofrequency radiation exposure limits.

Subpart V—Commission Collection of Advanced Telecommunications Capability Data and Local Exchange Competition Data

Brief Description: These rules modify the entities required to submit Form 477 and the submission frequency and stipulate how disclosure of data in Form 477 will be treated.

Need: These rules are needed to reduce reporting burdens and increase the usefulness of data collected through Form 477, which informs the Commission's efforts to encourage broadband deployment on a reasonable and timely basis to all Americans.

Legal Basis: 15 U.S.C. 79 et seq.; 47 U.S.C. 151, 154(i), 154(j), 155, 157, 225, 227, 303(r), and 309, Cable Landing License Act of 1921, 47 U.S.C. 35-39, and the Middle Class Tax Relief and Job Creation Act of 2012, Pub. L. 112-96.

Section Number and Title:

1.7001(a)(2) Facilities-based providers.

1.7001(b), (c), and (d) Scope and content of filed reports.

Brief Description: The rule modifications add the collection of broadband deployment data to the Commission's Form 477 collection. Other modifications streamline and reduce the burdens on providers while making other modest improvements.

Need: Data about broadband and voice deployment and subscription are essential to the Commission's ability to fulfill its statutory obligations and play a vital public interest role for other state, local, and federal agencies, researchers, and consumers.

Legal Basis: 47 U.S.C. 151, 154(i), 154(j), 155, 157, 225, 227, 303(r), and 309.

Section Number and Title:

1.7002 Frequency of reports.

Subpart X—Spectrum Leasing

Brief Description: The purpose of this subpart is to implement policies and rules pertaining to spectrum leasing arrangements between licensees in the services identified in this subpart and spectrum lessees. This subpart also implements policies for private commons arrangements.

Need: These rules serve an ongoing need with respect to defining which services are included in the Commission's spectrum leasing policies, outlined in this section.

Legal Basis: 47 U.S.C. 2, 5, 9, 13; 28 U.S.C. 2461 note; 47 U.S.C. 1754, unless otherwise noted.

Section Number and Title:

1.9005 Included services.

Subpart BB—Disturbance of AM Broadcast Station Antenna Patterns

Brief Description: This rule part protects the operations of AM broadcast stations from nearby tower construction that may distort the AM antenna patterns. All parties holding or applying for Commission authorizations that propose to construct or make a significant modification to an antenna tower or support structure in the immediate vicinity of an AM antenna, or propose to install an antenna on an AM tower, are responsible for completing the analysis and notice process described in this subpart, and for taking any measures necessary to correct disturbances of the AM radiation pattern, if such disturbances occur as a result of the tower construction or modification or as a result of the installation of an antenna on an AM tower. (An Inquiry Into the Commission's Policies and Rules Regarding AM Radio Service Directional Antenna Performance Verification, Third Report and Order and Second Order on Reconsideration, FCC 13-115).

Need: These rules establish a single protection scheme for tower construction and modification near AM tower arrays, and provide the option to use a computer modeling methodology that is reflective of current industry practice in lieu of time-consuming direct measurement procedures.

Legal Basis: 47 U.S.C. 151, 154(i), 154(j), 155, 157, 225, 227, 303(r), and 309.

Section Number and Title:

1.30000 Purpose.

1.30001 Definitions.

1.30002 Tower construction or modification near AM stations.

1.30003 Installations on an AM antenna.

1.30004 Notice of tower construction or modification near AM stations.

PART 2—FREQUENCY ALLOCATIONS AND RADIO TREATY MATTERS; GENERAL RULES AND REGULATIONS

Subpart B—Allocation, Assignment, and Use of Radio Frequencies

Brief Description: These rules determine when federal stations may be authorized to use frequencies in certain bands.

Need: The rules ensure efficient and effective use of spectrum.

Legal Basis: 47 U.S.C. 154, 302a, 303, and 336, unless otherwise noted; Secs. 4, 303, 48 Stat. 1066, 1082, as amended; 47 U.S.C. 154, 303.

Section Number and Title:

2.103 Federal use of non-Federal frequencies.

Brief Description: Section 2.106 contains the Table of Frequency Allocations, which specifies the Federal and non-Federal radio services that may operate in certain frequency bands, as well as the operating conditions for each service, including power limits and coordination procedures.

Need: The Table of Frequency Allocations is needed to allow Federal and non-Federal services to operate safely and without causing harmful interference. The Table is amended frequently to revise existing allocations and add new allocations, generally promoting more efficient and productive use of radio spectrum.

Legal Basis: 47 U.S.C. 154, 302a, 303, and 336.

Section Number and Title:

2.106 Table of Frequency Allocations.

Subpart I—Marketing of Radio-Frequency Devices

Brief Description: Sections 2.803 and 2.805 specify the how radio frequency devices may be marketed and operated prior to equipment authorization, respectively.

Need: These rules ensure that only radiofrequency devices that have been authorized through the Commission's equipment authorization program are marketed and operated, unless specified exceptions apply. The rules are critical to the effective management of the radiofrequency spectrum and help ensure that devices that could cause harmful interference to authorized users are not marketed or operated.

Legal Basis: 47 U.S.C. 154, 302a, 303, and 336.

Section Number and Title:

2.803 Marketing of radio frequency devices prior to equipment authorization.

2.805 Operation of radio frequency devices prior to equipment authorization.

Subpart J—Equipment Authorization Procedures

Brief Description: Section 2.1033 specifies what information must be included on an application when seeking certification of radiofrequency devices.

Need: These rules ensure that only radiofrequency devices that have been authorized through the Commission's equipment authorization program are marketed and operated, unless specified exceptions apply. The rules are critical to the effective management of the radiofrequency spectrum and help ensure that devices have proper technical documentation to support authorization of the equipment.

Legal Basis: 47 U.S.C. 154, 302a, 303, and 336.

Section Number and Title:

2.1033(b)(11) Application for certification.

Brief Description: Section 2.1091 specifies which mobile devices must undergo radiofrequency (RF) radiation exposure evaluation.

Need: These rules are needed to satisfy the Commission's responsibilities under the National Environmental Policy Act to evaluate the environmental significance of its actions and to minimize the chance of harmful interference.

Legal Basis: 47 U.S.C. 154, 302a, 303, and 336.

Section Number and Title:

2.1091 Radiofrequency radiation exposure evaluation: mobile devices.

Subpart K—Importation of Devices Capable of Causing Harmful Interference

Brief Description: Section 2.1204 specifies the conditions under which RF devices may be imported into the United States.

Need: This rule are needed to prevent unauthorized and non-complaint RF devices from being imported into the United States and causing harmful interference.

Legal Basis: 47 U.S.C. 154, 302a, 303, and 336.

Section Number and Title:

2.1204 Import conditions.

PART 4—DISRUPTIONS TO COMMUNICATIONS

Brief Description: These rules require that 911 service providers take reasonable measures to provide reliable 911 service, as evidenced by an annual certification. Providers can comply with this requirement by either implementing certain industry-backed “best practices”, or by implementing alternative measures that are reasonably sufficient to ensure reliable 911 service. 911 service providers certify to 911 circuit auditing, backup power, and network monitoring.

Need: These rules require 911 service providers to certify to best practices related to 911 circuit auditing, backup power, and network monitoring to reduce vulnerabilities in 911 network architecture, maintenance, and operation.

Legal Basis: 47 U.S.C. 1, 4(i), 4(j), 4(o), 201(b), 214(d), 218, 251(e)(3), 301, 303(b), 303(g), 303(r), 307, 309(a), 316, 332, 403, 615a-1, and 615c.

Section Number and Title:

4.9 Outage reporting requirements—threshold criteria.

PART 5—EXPERIMENTAL RADIO SERVICE

Subpart A—General

Brief Description: The rules in this part provide the conditions by which portions of the radio frequency spectrum may be used for the purposes of experimentation, product development, and market trials.

Need: These rules implement the Commission's statutory requirement to provide for experimental use of radio frequencies.

Legal Basis: 47 U.S.C. 154, 301, 302, 303, 307, 336.

Section Number and Title:

5.1 Basis and purpose.

5.3 Scope of service.

5.5 Definition of terms.

Subpart B—Applications and Licenses

5.51 Eligibility.

5.53 Station authorization required.

5.54 Types of authorizations available.

5.55 Filing of applications.

5.57 Who may sign applications

5.59 Forms to be used.

5.61 Procedure for obtaining a special temporary authorization.

5.63 Supplemental statements required.

5.64 Special provisions for satellite systems.

5.65 Defective applications.

5.67 Amendment or dismissal of applications.

5.69 License grants that differ from applications.

5.71 License period.

5.73 Experimental report.

5.77 Change in equipment and emission characteristics.

5.79 Transfer and assignment of station authorization for conventional, program, medical testing, Spectrum Horizons, and compliance testing experimental radio licenses.

5.81 Discontinuance of station operation.

5.83 Cancellation provisions.

5.84 Non-interference criterion.

5.85 Frequencies and policy governing frequency assignment.

5.91 Notification to the National Radio Astronomy Observatory.

5.95 Informal objections.

Subpart C—Technical Standards and Operating Requirements

5.101 Frequency stability.

5.103 Types of emission.

5.105 Authorized bandwidth.

5.107 Transmitter control requirements.

5.109 Responsibility for antenna structure painting and lighting.

5.110 Power limitations.

5.111 Limitations on use.

5.115 Station identification.

5.121 Station record requirements.

5.123 Inspection of stations.

5.125 Authorized points of communication.

Subpart D—Broadcast Experimental Licenses

5.201 Applicable rules.

5.203 Experimental authorizations for licensed broadcast stations.

5.205 Licensing requirements, necessary showing.

5.207 Supplemental reports with application for renewal of license.

5.211 Frequency monitors and measurements.

5.213 Time of operation.

5.215 Program service and charges.

5.217 Rebroadcasts.

5.219 Broadcasting emergency information.

Subpart E—Program Experimental Radio Licenses

5.301 Applicable rules.

5.302 Eligibility.

5.303 Frequencies.

5.304 Area of operations.

5.305 Program license not permitted.

5.307 Responsible party.

5.308 Stop buzzer.

5.309 Notification requirements.

5.311 Additional requirements related to safety of the public.

5.313 Innovation zones.

Subpart F—Medical Testing Experimental Radio Licenses

5.401 Applicable rules.

5.402 Eligibility and usage.

5.403 Frequencies.

5.404 Area of operation.

5.405 Yearly report.

5.406 Responsible party, “stop-buzzer,” and notification requirements, and additional requirements related to safety of the public.

5.407 Exemption from station identification requirement.

Subpart G—Compliance Testing Experimental Radio Licenses

5.501 Applicable rules.

5.502 Eligibility.

5.503 Scope of testing activities.

5.504 Responsible party.

5.505 Exemption from station identification requirement.

Subpart H—Product Development and Market Trials

5.601 Product development trials.

5.602 Market trials.

PART 13—COMMERCIAL RADIO OPERATORS

Brief Description: The part 13 rules prescribe the manner and conditions under which commercial radio operators are licensed by the Commission. Section 13.7 sets forth the classifications of operator licenses and endorsements. Section 13.8 describes the authority conveyed by the licenses, certificates, and permits issued under this part. Finally, section 13.9 provides the eligibility requirements and applications for a license or endorsement.

Need: The revised rules provide classification of operator licenses and endorsements (§ 13.7(b)(4)); authority conveyed by licenses, certificates, and permits issued under part 13 (§ 13.8(g)); and eligibility and application for new license or endorsement (§ 13.9(d)(3)). The need for these rules is ongoing.

Legal Basis: 47 U.S.C. 154 and 303.

Section Number and Title:

13.7(b)(4) Classification of operator licenses and endorsements.

13.8(g) Authority conveyed.

13.9(d)(3) Eligibility and application for new license or endorsement.

PART 14—ACCESS TO ADVANCED COMMUNICATIONS SERVICES AND EQUIPMENT BY PEOPLE WITH DISABILITIES

Subpart E—Internet Browsers Built Into Telephones Used With Public Mobile Services

Brief Description: These rules require that if a manufacturer of a telephone used with public mobile services includes an internet browser in such telephone, or if a provider of mobile service arranges for the inclusion of a browser in telephones to sell to customers, the manufacturer or provider shall ensure that the functions of the included browser (including the ability to launch the browser) are accessible to and usable by individuals who are blind or have a visual impairment, unless doing so is not achievable. 47 U.S.C. 619.

Need: These rules are needed to ensure that blind and low vision consumers can access internet browsers built into telephones used with public mobile services and the internet content using such internet browsers.

Legal Basis: 47 U.S.C. 151,154(i), 154(j), 255, 303, 403, 503, 617, 618, 619.

Section Number and Title:

14.60 Applicability.

14.61 Obligations with Respect to internet Browsers Built into Mobile Phones.

PART 15—RADIO FREQUENCY DEVICES

Subpart A—General

Brief Description: Section 15.3 contains the definitions of terms associated with radiofrequency devices operating under part 15 rules.

Need: This rule contains the definitions of terms associated with the intentional, unintentional, or incidental radiator equipment that may be operated without an individual license, which ensures devices comport with the FCC's equipment authorization rules The rules are critical to the effective management of the radiofrequency spectrum and help ensure that devices that operate without an individual license and could cause harmful interference to licensed and authorized radiofrequency users are not marketed.

Legal Basis: 47 U.S.C. 154, 302a, 303, 304, 307, 336, and 544a.

Section Number and Title:

15.3 Definitions.

Brief Description: Section 15.37 sets dates for when certain devices will no longer receive authorization for use in specific radiofrequency bands and for some devices what rule sections apply following that date.

Need: This rule establishes timelines for when equipment authorization for the use of specified devices in specific spectrum bands will no longer be permitted or after a date when certain devices must be authorized pursuant to another part 15 rule. The rule allows both consumers and equipment manufacturers to understand when devices are no longer eligible to receive authorization.

Legal Basis: 47 U.S.C. 154, 302a, 303, 304, 307, and 544A.

Section Number and Title:

15.37 Transition provisions for compliance with this part.

Subpart C—Intentional Radiators

Brief Description: Section 15.204 requires that an intentional radiator only be operated with the antenna with which it was authorized.

Need: By stipulating that part 15 intentional radiators can only operate with an authorized antenna, this rule allows the Commission to ensure that part 15 intentional radiator devices operate within the required power levels. This allows the Commission to ensure that radiofrequency devices used without an individual license comply with the equipment authorization rules, which in turn ensures that such devices do not cause harmful interference.

Legal Basis: 47 U.S.C. 154, 302a, 303, 304, 307, and 544A.

Section Number and Title:

15.204 External radio frequency power amplifiers and antenna modifications.

Brief Description: Section 15.237 establishes the power and operating requirements for auditory assistance devices operating in the frequency bands 72.0-73.0 MHz, 74.6-74.8 MHz and 75.2-76.0 MHz.

Need: This rule establishes the operating requirements for auditory assistance devices, such as hearing aids, that operate in the spectrum bands 72.0-73.0 MHz, 74.6-74.8 MHz and 75.2-76.0 MHz. Auditory assistance devices are intentional radiators and imposing technical operating requirements ensures they meet the equipment authorization process and be certified for marketing.

Legal Basis: 47 U.S.C. 154, 302a, 303, 304, 307, 336, and 544A.

Section Number and Title:

15.237 Operation in the bands 72.0-73.0 MHz, 74.6-74.8 MHz and 75.2-76.0 MHz.

Brief Description: Section 15.255 establishes the technical parameters for devices operating in the 57-64 GHz band.

Need: This rule sets the operating requirements for intentional radiators in the 57-64 GHz range (subsequently expanded to 71 GHz). Setting power and emission limits for devices operating in this band help to ensure such devices meet the FCC's equipment authorization regime and will not cause harmful interference.

Legal Basis: 47 U.S.C. 154, 302a, 303, and 336.

Section Number and Title:

15.255 Operation within the band 57-64 GHz. (title has subsequently been changed to Operation within the band 54-71 GHz.).

SUBCHAPTER B—COMMON CARRIER SERVICES

PART 20—COMMERCIAL MOBILE SERVICES

Brief Description: Part 20 rules set forth the Commission's requirements and conditions for commercial mobile radio service providers under the Communications Act of 1934, as amended. Section 20.2 lists other rule parts applicable to commercial mobile radio service providers. Section 20.2(c) adds part 9 of the Commission's rules, which contains 911 and E911 requirements applicable to commercial mobile radio service providers, to the list of the rule parts applicable to commercial mobile radio service providers. Section 20.21 sets forth rules providing for broader availability of signal boosters, while setting technical, operational, and registration requirements for such boosters.

Need: Section 20.2 is needed on an ongoing basis to provide notice to commercial mobile radio service providers of their obligations under applicable 911 and E911 requirements. Section 20.21 is needed on an ongoing basis to continue to provide for the use of signal boosters to enhance wireless coverage for consumers, as well as to ensure that the broad availability of these devices does not adversely affect wireless networks.

Legal Basis: 47 U.S.C. 151, 152(a), 154(i), 157, 160, 201, 214, 222, 251(e), 301, 302, 303, 303(b), 303(r), 307, 307(a), 309, 309(j)(3), 316, 316(a), 332, 610, 615, 615(a), 615(b), 615(c), unless otherwise noted.

Section Number and Title:

20.2 Other applicable rule parts.

20.21 Signal boosters.

PART 22—PUBLIC MOBILE SERVICES

Subpart A—Scope and Authority

Brief Description: The part 22 rules establish the requirements and conditions under which radio stations may be licensed and used in the Public Mobile Services. Subpart A provides the scope and authority, and section 22.9 permits operation of certificated Consumer Signal Boosters on frequencies regulated for Public Mobile Services.

Need: Section 22.9 was added to the Commission's rules to permit operation of Consumer Signal Boosters under applicable part 22 rules for Public Mobile Services, and it is needed on an ongoing basis.

Legal Basis: 47 U.S.C. 154, 222, 303, 309, and 332.

Section Number and Title:

22.9 Operation of certificated signal boosters.

Subpart C—Operational and Technical Requirements

Brief Description: Section 22.377 states that transmitters used under this rule part must be certified under the Commission's part 2 equipment authorization rules.

Need: This rule allows the Commission to ensure that radiofrequency devices used in the Public Mobile Services comply with the equipment authorization rules, which in turn ensure that the FCC carries out its responsibilities under the Communications Act and the various treaties and international regulations.

Legal Basis: 47 U.S.C. 154, 222, 303, 309, and 332.

Section Number and Title:

22.377 Certification of transmitters.

Subpart E—Paging and Radiotelephone Service

Brief Description: Section 22.591 lists the channels that are allocated for assignment to fixed transmitters that support other transmitters that provide public mobile service.

Need: This rule furthers the statutory requirement that the Commission assign bands of frequencies to the various classes of stations and provides a channel plan that promotes the effective and efficient use of point-to-point operations in the public mobile paging and radiotelephone stations.

Legal Basis: 47 U.S.C. 154, 222, 303, 309, and 332.

Section Number and Title:

22.591 Channels for point-to-point operation.

PART 24—PERSONAL COMMUNICATIONS SERVICES

Subpart A—General Information

Brief Description: The part 24 rules state the conditions under which portions of the radio spectrum are made available and licensed for personal communications services. Subpart A provides general information, and section 24.9 permits operation of certificated Consumer Signal Boosters on frequencies regulated under this part.

Need: Section 24.9 was added to the Commission's rules to permit operation of Consumer Signal Boosters under applicable part 24 rules for personal communications services, and it is needed on an ongoing basis.

Legal Basis: 47 U.S.C. 154, 301, 302, 303, 309, and 332.

Section Number and Title:

24.9 Operation of certificated signal boosters.

PART 25—SATELLITE COMMUNICATIONS

Subpart C—Technical Standards

Brief Description: Part 25 contains service and licensing rules for Satellite Communications. Subpart C sets forth technical standards applicable to operations by satellite operators. Section 25.263 provides information sharing requirements for Satellite Digital Audio Radio Authorization (SDARS) terrestrial repeater operators. Section 25.265 requires Mobile Satellite Service licenses operating in the 2000-2020 MHz band to accept interference from lawful operations in the 1995-2000 MHz band (AWS-H Block).

Need: Sections 25.263(b)(3)-(6) were added to the Commission's rules to incorporate proposed language from AT&T/Sirius XM encouraging the adoption of coordination agreements by Wireless Communications Services (WCS) and SDARS as well as a provision ensuring that WCS and SDARS are able to enter into agreements regarding the logistics of information exchanges. Section 25.265 provides for continued operations of Mobile Satellite Service licenses in the 2000-2020 MHz band and AWS-H Block operations in the 1995-2000 MHz band in the public interest. The need for these rules is ongoing.

Legal Basis: 47 U.S.C. 154, 301, 302, 303, 307, 309, 310, 319, 332, 605, and 721, unless otherwise noted.

Section Number and Title:

25.263(b)(3)-(6) Information sharing requirements for SDARS terrestrial repeater operators.

25.265 Acceptance of interference in 2000-2020 MHz.

PART 27—MISCELLANEOUS WIRELESS COMMUNICATIONS SERVICES

Subpart A—General Information

Brief Description: The part 27 rules state the conditions under which spectrum is made available and licensed for the provision of Miscellaneous Wireless Communications Services (WCS) in twenty-six distinct bands. Subpart A sets forth general information. Sections 27.1(b)(7) and (b)(10) specify that the Part 27 rules apply to Advanced Wireless Services H Block (AWS-H) frequencies in 1915-1920 MHz and 1995-2000 MHz and Advanced Wireless Services 4 (AWS-4) frequencies in 2000-2020 MHz and 2180-2200 MHz. Section 27.2 provides for permissible communications under this part at specified frequencies. Section 27.5(j) and (k) provide for the licensing of frequencies in the 2000-2020 MHz and 2180-2200 MHz (AWS-4) and 1915-1920 MHz and 1995-2000 (AWS-H) bands, while sections 27.6(i) and (j) provide for the applicable service areas in these bands. Section 27.9 permits operation of certificated Consumer Signal Boosters on frequencies regulated under this part.

Need: Section 27.1(b)(7) and (b)(10) were added to provide for the applicability of Part 27 rules to AWS frequencies. Section 27.2(d) was added to ensure that AWS-4 operators in the 2000-2020 MHz and 2180-2200 MHz do not provide mobile-satellite service under the provisions of this part. Section 27.2(e) was added to ensure only downlink transmissions occur on the 716-722 MHz and 722-728 MHz bands. Sections 27.5(j) and (k) and sections 27.6(i) and (j) were added to provide for licensing of and service in the AWS-4 and AWS-H bands in the public interest. Section 27.9 was added to permit operation of Consumer Signal Boosters under wireless communications services in the applicable bands. These rules all continue to be needed on an ongoing basis.

Legal Basis: 47 U.S.C. 154, 301, 302a, 303, 307, 309, 332, 336, 337, 1403, 1404, 1451, and 1452, unless otherwise noted.

Section Number and Title:

27.1(b)(7), (b)(10) Basis and purpose.

27.2(d), (e) Permissible communications.

27.5(j), (k) Frequencies.

27.6 Service areas.

27.6(i), (j) Service areas.

27.9 Operation of certified signal boosters.

Subpart B—Applications and Licenses

Brief Description: These rules state, in part, the conditions under which spectrum is made available and licensed for the provision of wireless communications services in the following bands. Part 27 contains service and licensing rules for Miscellaneous Wireless Communications Services. Subpart B establishes application and licensing requirements applicable to a number of spectrum bands, including, among others, Advanced Wireless Services H Block (AWS-H) (1915-1920 MHz and 1995-2000 MHz) and Advanced Wireless Services 4 (AWS-4) (2000-2020 MHz and 2180-2200 MHz). The revised rules specify license periods for AWS-H and AWS-4 (sections 27.13(i) and (j)) and construction requirements for AWS-H and AWS-4 (sections 27.14(q) and (r)).

Need: The need for these rules is ongoing to ensure that AWS licenses continue to operate in the public interest.

Legal Basis: 47 U.S.C. 154, 301, 302a, 303, 307, 309, 332, 336, 337, 1403, 1404, 1451, and 1452, unless otherwise noted.

Section Number and Title:

27.11 Initial authorization.

27.13 License period.

27.13(i) License period.

27.13(j) License period.

27.14 Construction requirements.

27.14(q) Construction requirements.

27.14(r) Construction requirements.

27.15 Geographic partitioning and spectrum disaggregation.

Subpart C—Technical Standards

Brief Description: The part 27 rules state the conditions under which spectrum is made available and licensed for the provisions of wireless communications services in twenty-six distinct bands. Subpart C sets forth technical standards. The section 27.50 rules add power limits and emission limits for particular types of services that may be offered as 600 MHz, Advanced Wireless Services H Block (AWS-H), and Advanced Wireless Services 4 (AWS-4). Section 27.53 provides for emission limits in particular bands. Section 27.64 protects against interference from wireless communications service stations. Section 27.65 provides for the acceptance of interference by AWS-4 licensees from lawful operations in the 1995-2000 MHz band.

Need: Section 27.50 is needed on an ongoing basis to ensure that appropriate power limits, emission limits, and other technical requirements are in place such that AWS licenses continue to operate in the public interest. Section 27.53(h)(2)(iii) and (h)(2)(iv) are needed on an ongoing basis to set forth AWS emission limits for operations in the 1915-1920 MHz and 1995-2000 MHz bands. Section 27.64(d) is needed on an ongoing basis to define harmful interference to SDARS operations that require resolution. Section 27.65 is needed to ensure that receivers operating in the 2000-2020 MHz band (AWS-4) and lawful operations in the 1995-2000 MHz band continue to operate in the public interest.

Legal Basis: 47 U.S.C. 154, 301, 302a, 303, 307, 309, 332, 336, 337, 1403, 1404, 1451, and 1452, unless otherwise noted.

Section Number and Title:

27.50 Power limits and duty cycle.

27.50(c)(12), (c)(13) Power limits and duty cycle.

27.50(d)(7)-(10) Power limits and duty cycle.

27.53 Emission limits.

Brief Description: The part 27 rules state the conditions under which spectrum is made available and licensed for the provisions of wireless communications services in twenty-six distinct bands. Subpart C sets forth technical standards. The section 27.50 rules add power limits and emission limits for particular types of services that may be offered as 600 MHz, Advanced Wireless Services H Block (AWS-H), and Advanced Wireless Services 4 (AWS-4). Section 27.53 provides for emission limits in particular bands. Section 27.64 protects against interference from wireless communications service stations. Section 27.65 provides for the acceptance of interference by AWS-4 licensees from lawful operations in the 1995-2000 MHz band.

Need: Section 27.50 is needed on an ongoing basis to ensure that appropriate power limits, emission limits, and other technical requirements are in place such that AWS licenses continue to operate in the public interest. Section 27.53(h)(2)(iii) and (h)(2)(iv) are needed on an ongoing basis to set forth AWS emission limits for operations in the 1915-1920 MHz and 1995-2000 MHz bands. Section 27.64(d) is needed on an ongoing basis to define harmful interference to SDARS operations that require resolution. Section 27.65 is needed to ensure that receivers operating in the 2000-2020 MHz band (AWS-4) and lawful operations in the 1995-2000 MHz band continue to operate the public interest.

Legal Basis: 47 U.S.C. 154, 301, 302a, 303, 307, 309, 332, 336, 337, 1403, 1404, 1451, and 1452, unless otherwise noted.

Section Number and Title:

27.53(h)(2)(iii), (iv) Emission limits.

Brief Description: The part 27 rules state the conditions under which spectrum is made available and licensed for the provisions of wireless communications services in twenty-six distinct bands. Subpart C sets forth technical standards. The section 27.50 rules add power limits and emission limits for particular types of services that may be offered as 600 MHz, Advanced Wireless Services H Block (AWS-H), and Advanced Wireless Services 4 (AWS-4). Section 27.53 provides for emission limits in particular bands. Section 27.64 protects against interference from wireless communications service stations. Section 27.65 provides for the acceptance of interference by AWS-4 licensees from lawful operations in the 1995-2000 MHz band.

Need: These rules are needed on an ongoing basis to ensure that appropriate power limits, emission limits, and other technical requirements are in place such that AWS licenses continue to operate in the public interest. Section 27.64(d) is needed on an ongoing basis to define harmful interference to SDARS operations that require resolution. Section 27.65 is needed to ensure that receivers operating in the 2000-2020 MHz band (AWS-4) and lawful operations in the 1995-2000 MHz band continue to operate the public interest.

Section Number and Title:

27.55 Power strength limits.

27.57 International coordination.

27.60 TV/DTV interference protection criteria.

27.64 Protection from interference.

27.65 Acceptance of interference in 2000-2020 MHz.

27.70 Information exchange.

Subpart E—Application, Licensing, and Processing Rules for WCS

Brief Description: Commercial Mobile Radio Service operators are required to submit a description of their proposed facility to a Commission-approved public safety coordinator.

Need: These rules continue to be needed to facilitate communication among licensees and public safety coordinators.

Legal Basis: 47 U.S.C. 154, 301, 302a, 303, 307, 309, 332, 336, 337, 1403, 1404, 1451, and 1452, unless otherwise noted.

Section Number and Title:

27.303 Upper 700 MHz commercial and public safety coordination zone.

Subpart F—Competitive Bidding, Procedures for the 698-806 MHz Band

Brief Description: These rules describe the conditions under which spectrum is made available and licensed for the provision of wireless communications services in certain bands.

Need: This rule serves an ongoing need to notify the public how the Commission will resolve mutually exclusive bids for these frequencies.

Legal Basis: 47 U.S.C. 154, 301, 302a, 303, 307, 309, 332, 336, 337, 1403, 1404, 1451, and 1452, unless otherwise noted.

Section Number and Title:

27.501 746-758 MHz, 775-788 MHz, and 805-806 MHz bands subject to competitive bidding.

Subpart K—1915-1920 MHz and 1995-2000 MHz

Brief Description: Part 27 contains service and licensing rules for Miscellaneous Wireless Communications Services. Subpart K contains rules that are applicable to Advanced Wireless Service H Block (AWS-H) stations operating in the 1915-1920 MHz and 1995-2000 MHz frequencies. The Subpart K rules (sections 27.1001, 27.1002, 27.1021, 27.1031, and 27.1041) establish that licenses in these bands will be subject to competitive bidding and define designated entities in the bands for purposes of competitive bidding. In addition, these rules set reimbursement obligations for the new licenses with respect to relocation of incumbent licenses from these bands.

Need: The need for these rules is ongoing to ensure that stations within the Advanced Wireless Service H Block continue to operate in the public interest.

Legal Basis: 47 U.S.C. 151, 152, 154(i), 301, 302, 303, 307, 309, 332, 336, 337, 1403, 1404 and 1451.

Section Number and Title:

27.1001 1915-1920 MHz and 1995-2000 MHz bands subject to competitive bidding.

27.1002 Designated entities in the 1915-1920 MHz and 1995-2000 MHz bands.

27.1021 Reimbursement obligation of licensees at 1915-1920 MHz.

27.1031 Reimbursement obligation of licensees at 1995-2000 MHz.

27.1041 Termination of cost-sharing obligations.

Subpart L—1695-1710 MHz, 1710-1755 MHz, 1755-1780 MHz, 2110-2155 MHz, 2155-2180 MHz, 2180-2200 MHz Bands

Brief Description: Part 27 contains service and licensing rules for Miscellaneous Wireless Communications Services. Subpart L contains rules that are applicable to Advanced Wireless Services, including Advanced Wireless Services 4 (AWS-4) stations operating in the 2000-2020/2180-2200 MHz bands. Sections 27.1103 and 27.1104 establish rules applicable to competitive bidding for AWS-4 licenses and define designated entities in the bands for purposes of competitive bidding. Sections 27.1134(e) and 27.1136 require that AWS-4 licensees protect Federal Government Operations and mobile satellite services, respectively.

Need: The need for these rules is ongoing to ensure that AWS-4 stations continue to operate in the public interest.

Legal Basis: 47 U.S.C. 151, 152, 154(i), 301, 302, 303, 307, 309, 332, 336, 337, 1403, 1404 and 1451.

Section Number and Title:

27.1103 2000-2020 MHz and 2180-2200 MHz bands subject to competitive bidding.

27.1104 Designated Entities in the 2000-2020 MHz and 2180-2200 MHz bands.

27.1134(e) Protection of Federal Government Operations.

27.1136 Protection of mobile satellite services in the 2000-2020 MHz and 2180-2200 MHz bands.

PART 43—REPORTS OF COMMUNICATION COMMON CARRIERS, PROVIDERS OF INTERNATIONAL INTERCONNECTED VOICE OVER INTERNET PROTOCOL SERVICES AND CERTAIN AFFILIATES

Brief Description: These rules modify the entities required to submit Form 477 and the submission frequency and stipulate how disclosure of data in Form 477 will be treated.

Need: These rules are needed to reduce reporting burdens and increase the usefulness of data collected through Form 477, which informs the Commission's efforts to encourage broadband deployment on a reasonable and timely basis to all Americans.

Legal Basis: 47 U.S.C. 35-39, 154, 211, 219, 220; Pub. L. 104-104, sec. 402(b)(2)(B), (c), 110 Stat. 56 (1996) as amended unless otherwise noted.

Section Number and Title:

43.01(a), (b) Applicability.

Brief Description: Part 43 sets forth reporting requirements for common carriers. During the relevant reporting period, the Commission revised the requirements for providers of international telecommunications to report annual traffic and revenue and circuit information. Among other things, the Commission removed reporting requirements from over a thousand small carriers and greatly simplified the reporting requirements for larger carriers. Additionally, during the same reporting period, the Commission further modernized and streamlined its international telephony rules in an effort to lower costs and increase competition among U.S. carriers by eliminating the International Settlements Policy (ISP) and applying a modified version to Cuba.

Need: In further streamlining and modernizing its reporting requirements, the Commission ensured that it obtains information that is more relevant to the current state of the international telecommunications markets and its data collections match its data needs while avoiding unnecessary or excessive burdens on entities subject to Commission authority. With regard to modifying the ISP, the Commission's actions, among other things, enhanced its ability to respond to foreign carriers' anticompetitive behavior in a timely and effective manner and provided U.S. carriers greater flexibility to negotiate lower settlement rates on those routes that are no longer subject to the ISP.

Legal Basis: 47 U.S.C. 154; Telecommunications Act of 1996; Pub. Law 104-104, sec. 402(b)(2)(B), (c), 110 Stat. 56 (1996) as amended unless otherwise noted. 47 U.S.C. 211, 219, 220, as amended; Cable Landing License Act of 1921, 47 U.S.C. 35-39.

Section Number and Title:

43.62 [added] Reporting requirements for holders of international Section 214 authorizations and providers of international services.

PART 54—UNIVERSAL SERVICE

Subpart D—Universal Service Support for High Cost Areas

Brief Description: Section 54.312(b) prospectively revises rules for the first round of Connect America Fund Phase I incremental funding. Section 54.312(c) implements the second round of Connect America Fund Phase I incremental funding, including acceptance requirements and support amounts. Section 54.313 stipulates reporting requirements for recipients of high cost universal service funding and revises financial reporting obligations for privately held rate-of-return carriers.

Need: These rules are needed for implementation of the second round of Connect America Fund Phase I incremental funding and to increase transparency, monitoring, and oversight over Phase I recipients while reducing reporting burdens for certain carriers.

Legal Basis: 47 U.S.C. 151, 154(i), 155, 201, 205, 214, 219, 220, 254, 303(r), 403, and 1302.

Section Number and Title:

54.312(b), (b)(3) Incremental Support in 2012.

54.312(c), (c)(4) Incremental Support in 2013.

54.313(b), (f)(2) Annual reporting requirements for high-cost recipients.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

Brief Description: Part 63 sets forth, among other things, the processes, requirements, and conditions applicable to international section 214 applications and authorizations to provide global facilities-based and global resale services. During the relevant reporting period, the Commission revised the requirements for providers of international telecommunications to report annual traffic and revenue and circuit information. Among other things, the Commission removed reporting requirements from over a thousand small carriers and greatly simplified the reporting requirements for larger carriers. Additionally, during the same reporting period, the Commission further modernized and streamlined its international telephony rules in an effort to lower costs and increase competition among U.S. carriers by eliminating the International Settlements Policy (ISP) and applying a modified version to Cuba.

Need: These rules provide the applicable framework and establish the general applications, procedures, conditions, and restrictions for the provision of U.S.-international telecommunications services. In further streamlining and modernizing its reporting requirements, the Commission ensured that it obtains information that is more relevant to the current state of the international telecommunications markets and its data collections match its data needs while avoiding unnecessary or excessive burdens on entities subject to Commission authority. With regard to modifying the ISP, the Commission's actions, among other things, enhanced its ability to respond to foreign carriers' anticompetitive behavior in a timely and effective manner and provided U.S. carriers greater flexibility to negotiate lower settlement rates on those routes that are no longer subject to the ISP.

Legal Basis: 47 U.S.C. 1, 4(i), 4(j), 10, 11, 201-205, 214, 218, 403 and 651 of the Communications Act of 1934, as amended, 47 U.S.C. 151, 154(i), 154(j), 160, 201-205, 214, 218, 403, and 571, unless otherwise noted.

Section Number and Title:

63.10(c)(2) and (4) Regulatory classification of U.S. international carriers.

63.17(b) introductory text Special provisions for U.S. international common carriers.

63.21(d) Conditions applicable to all international Section 214 authorizations.

63.22(e), (f) redesignated as (h); (f), (g), Note 1 and Note 2 [added] (f), (g), Note 1 and Note 2 [added] Facilities-based international common carriers.

PART 64—MISCELLANEOUS RULES RELATING TO COMMON CARRIERS

Subpart F—Telecommunications Relay Services and Related Customer Premises Equipment for Persons With Disabilities

Brief Description: Part 64, subpart F implements section 225 of the Communications Act of 1934 (the Act), as amended. Section 225 of the Act codifies Title IV of the Americans with Disabilities Act of 1990 (ADA) which requires that the Commission ensure telecommunications relay services (TRS) are available, “to the extent possible and in the most efficient manner,” to individuals with hearing or speech disabilities in the United States. 47 U.S.C. 225(b)(1) (“In order to carry out the purposes established under section 151 of this title, to make available to all individuals in the United States a rapid, efficient nationwide communication service, and to increase the utility of the telephone system of the Nation, the Commission shall ensure that interstate and intrastate telecommunications relay services are available, to the extent possible and in the most efficient manner, to hearing-impaired and speech-impaired individuals in the United States.”). Section 225 of the Act defines “TRS” as telephone transmission services that provide the ability for an individual who is deaf, hard of hearing, deafblind, or who has a speech disability to engage in communication by wire or radio with one or more individuals, in a manner that is functionally equivalent to the ability of a hearing individual who does not have a speech disability to communicate using voice communication services by wire or radio. These rules provide minimum functional, operational, and technical standards for TRS programs. The rules give states a significant role in ensuring the availability of TRS by treating carriers as compliant with their statutory obligations if they operate in a state that has a relay program certified as compliant by the Commission. The rules also establish a cost recovery and a carrier contribution mechanism (TRS Fund) for the provision of interstate TRS and require states to establish cost recovery mechanisms for the provision of intrastate TRS. In 2013, § 64.601 rules were amended by revising paragraphs (a)(2) through (29) and by adding paragraphs (a)(30), (a)(31), (a)(32), (a)(33), (a)(34), (a)(35), (a)(36), (a)(37), (a)(38), (a)(39, (a)(40), (a)(41), (a)(42), (a)(43), (a)(44), and (a)(45) to § 64.601defining terms. Also, in 2013, the Commission amended: § 64.604 to revise paragraphs (b)(2), (b)(4), and (c)(5), by adding paragraphs (c)(12), (c)(13) and (d); amended § 64.605 by revising paragraph (b)(4) [now redesignated as § 9.14(c)(4)]; amended § 64.606 by adding paragraph (a)(4), (g)(3), and (g)(4); and amended § 64.611 by adding paragraphs (a)(3) and (a)(4), by revising paragraph (f), and by adding paragraph (h).

Need: The rules implementing section 225 of the Act are intended to facilitate communication by persons with hearing or speech disabilities in order to give full effect to the accessibility policies embodied in section 225 of the Act, and to ensure that individuals with hearing or speech disabilities receive the same quality of service as hearing individuals when they make TRS calls, regardless of where their calls originate or terminate. Further, the rules are designed to further the TRS functional equivalency mandate by ensuring that internet-based TRS users can be reached by voice telephone users in the same way that voice telephone users are called. These rules also are intended to ensure that emergency calls placed by internet-based TRS users will be routed directly and automatically to the appropriate emergency services authorities by internet-based TRS providers.

Legal Basis: 47 U.S.C. 151-154; 225, 255, 303(r), 616, and 620.

Section Number and Title:

64.601(a)(1) 711.

64.601(a)(2) ACD platform.

64.601(a)(3) American Sign Language.

64.601(a)(4) ANI.

64.601(a)(5) [Redesignated 64.601(a)(7)] ASCII.

64.601(a)(6) [Redesignated 64.601(a)(8)] Authorized provider.

64.601(a)(7) [Redesignated 64.601(a)(9)] Baudot.

64.601(a)(8) [Redesignated 64.601(a)(10)] Call release.

64.601(a)(9) [Redesignated 64.601(a)(12)] Common carrier or carrier.

64.601(a)(10) [Redesignated 64.601(a)(13)] Communications assistant (CA).

64.601(a)(11) [Redesignated 64.601(a)(14)] Default provider.

64.601(a)(12) [Redesignated 64.601(a)(15)] Default provider change order.

64.601(a)(13) [Redesignated 64.601(a)(18)] Hearing carry over (HCO).

64.601(a)(14) [Redesignated 64.601(a)(21)] Interconnected VoIP service.

64.601(a)(15) [Redesignated 64.601(a)(22)] internet-based TRS (iTRS).

64.601(a)(16) [Redesignated 64.601(a)(23)] internet Protocol Captioned Telephone Service (IP CTS).

64.601(a)(17) [Redesignated 64.601(a)(24)] internet Protocol Relay Service (IP Relay).

64.601(a)(18) [Redesignated 64.601(a)(25)] IP Relay access technology.

64.601(a)(19) [Redesignated 64.601(a)(26)] iTRS access technology.

64.601(a)(20) [Subsequently deleted] Neutral Video Communication Service Platform.

64.601(a)(21) [Redesignated 64.601(a)(27)] New default provider.

64.601(a)(22) [Redesignated 64.601(a)(28)] Non-English language relay service.

64.601(a)(23) [Redesignated 64.601(a)(28)] Non-interconnected VoIP service.

64.601(a)(24) [Redesignated 64.601(a)(30)] Numbering partner.

64.601(a)(25) [Redesignated 64.601(a)(31)] Original default provider.

64.601(a)(26) [Redesignated 64.601(a)(36)] Qualified interpreter.

64.601(a)(27) [Redesignated 64.601(a)(38)] Registered internet-based TRS user.

64.601(a)(28) [Redesignated 64.601(a)(39)] Registered Location.

64.601(a)(29) [Redesignated 64.601(a)(40)] Sign language.

64.601(a)(30) [Redesignated 64.601(a)(41)] Speech-to-speech relay service (STS).

64.601(a)(31) [Redesignated 64.601(a)(42)] Speed dialing.

64.601(a)(32) [Redesignated 64.601(a)(43)] Telecommunications relay services (TRS).

64.601(a)(33) [Redesignated 64.601(a)(44)] Text telephone (TTY).

64.601(a)(34) [Redesignated 64.601(a)(45)] Three-way calling feature.

64.601(a)(35) [Redesignated 64.601(a)(46)] TRS Numbering Administrator.

64.601(a)(36) [Redesignated 64.601(a)(47)] TRS Numbering Directory.

64.601(a)(37) [Redesignated 64.601(a)(48)] TRS User Registration Database.

64.601(a)(38) [Redesignated 64.601(a)(49)] Unauthorized provider.

64.601(a)(39) [Redesignated 64.601(a)(50)] Unauthorized change.

64.601(a)(40) [Redesignated 64.601(a)(51)] Video Relay Service (VRS).

64.601(a)(41) [Redesignated 64.601(a)(53)] Visual privacy screen.

64.601(a)(42) [Redesignated 64.601(a)(54)] Voice carry over (VCO).

64.601(a)(43) [Redesignated 64.601(a)(55)] VRS access technology.

64.601(a)(44) [Redesignated 64.601(a)(56)] VRS access technology reference platform.

64.601(a)(45) [Subsequently deleted] VRS CA service provider.

64.604)(b)(2) Speed of answer.

64.604(b)(4) TRS facilities.

64.604(c)(5) Jurisdictional separation of costs.

64.604(c)(12) Discrimination and preferences.

64.604(c)(13) Unauthorized and unnecessary use of VRS or IP CTS.

64.604(d) Other standards.

64.605(b)(4)(ii) [Redesignated 47 CFR 9.14(c)(4)(ii)] Emergency Calling Requirements.

64.606(a)(4) [Subsequently deleted] RE: Neutral Video Communications Service Platform.

64.606(g)(3) VRS provider compliance plan.

64.606(g)(4) VRS provider compliance plan corrections.

64.611(a)(3) Certification of eligibility of VRS users.

64.611(a)(4) TRS User Registration Database information.

64.611(f) iTRS access technology.

64.611(h) [Subsequently deleted] Use of Neutral Video Communication Service Platform.

64.615 TRS User Registration Database and administrator.

64.617 [Subsequently deleted] Neutral Video Communication Service Platform.

64.619 VRS Access Technology Reference Platform and administrator.

64.621 Interoperability and portability.

64.623 Administrator requirements.

64.630 Applicability of change of default TRS provider rules.

64.631 Verification of orders for change of default TRS providers.

64.632 Letter of authorization form and content.

64.633 Procedures for resolution of unauthorized changes in default provider.

64.634 Procedures where the Fund has not yet reimbursed the provider.

64.635 Procedures where the Fund has already reimbursed the provider.

64.636 Prohibition of default provider freezes.

Subpart V—Rural Call Completion

Brief Description: These rules establish a framework to address the completion of long-distance telephone calls to rural areas for certain providers of long-distance voice service. The rules also prohibit false ring signaling for long-distance voice service providers.

Need: These rules are needed to help eliminate the problem of non-completion of calls to rural areas.

Legal Basis: 47 U.S.C. 151, 154(i), 201(b), 202(a), 218, 220(a), 251(a), and 403.

Section Number and Title:

64.2101 Definitions.

Subpart W—Ring Signaling Integrity

64.2201 Ringing Indication Requirements.

Subpart EE—TRS Customer Proprietary Network Information

Brief Description: These rules implement customer proprietary network information (CPNI) protections for users of telecommunications relay services (TRS) and point-to-point video service pursuant to sections 4, 222, and 225 of the Act, as amended. The rules dictate the conditions under which a TRS provider may use, disclose, or permit access to CPNI, how TRS providers may seek approval for use of CPNI, notices that TRS providers must provide regarding use or disclosure of CPNI, the safeguards for the use and disclosure of CPNI that TRS providers must implement, and the procedures TRS providers must follow in the event of a breach of CPNI security.

Need: These rules are necessary to allow appropriate use and disclosure of CPNI by TRS providers, to inform TRS users of how their CPNI can be used and disclosed, and to protect against unnecessary and unlawful use and disclosure of TRS users' CPNI.

Legal Basis: 47 U.S.C. 154, 222, 225.

Section Number and Title:

64.5101 Basis and purpose.

64.5103 Definitions.

64.5105 Use of customer proprietary network information without customer approval.

64.5107 Approval required for use of customer proprietary network information.

64.5108 Notice required for use of customer proprietary network information.

64.5109 Safeguards required for use of customer proprietary network information.

64.5110 Safeguards on the disclosure of customer proprietary network information.

64.5111 Notification of customer proprietary network information security breaches.

Subpart FF—Inmate Calling Services

Brief Description: These rules reduce the rates for interstate inmate calling services by requiring providers to charge cost-based rates. The rules establish interim rate caps for debit and prepaid calling. The rules also prohibit billing-related call blocking unless the provider has an alternative means to pay for a call and special charges for technologies used to access telephone relay service. They also require inmate calling service providers to submit an annual report to the Commission.

Need: These rules are needed to establish just, reasonable, and fair rates for interstate inmate calling services.

Legal Basis: 47 U.S.C. 151, 154(i)-(j), 201, 225, 276, and 303(r).

Section Number and Title:

64.6000 Definitions.

64.6030 Inmate Calling Services Interim Rate Cap.

64.6050 Billing-Related Call Blocking.

64.6060 Annual Reporting and Certification Requirement.

PART 73—RADIO BROADCAST SERVICES

Subpart A—AM Broadcast Stations

Brief Description: This rule helps establish a single protection scheme for tower construction and modification near AM tower arrays and designates “moment method” computer modeling as the principal means of determining whether a nearby tower affects an AM radiation pattern. (An Inquiry Into the Commission's Policies and Rules Regarding AM Radio Service Directional Antenna Performance Verification, Third Report and Order and Second Order on Reconsideration, FCC 13-115).

Need: This rule is necessary to simplify the Commission's licensing procedures by replacing time-consuming direct measurement procedures with an efficient computer modeling methodology that is reflective of current practices.

Legal Basis: 47 U.S.C. 154, 303, 334, 336, and 339.

Section Number and Title:

73.45(c) intro. AM antenna systems.

Subpart B—FM Broadcast Stations

73.316(e) FM antenna systems.

Subpart E—Television Broadcast Stations

73.685(h) Transmitter location antenna system.

Subpart G—Low Power FM Broadcast Station (LPFM)

Brief Description: These rules implement the provisions of the Local Community Radio Act of 2010. They also propose changes to rules intended to promote the low power FM service's localism and diversity goals, reduce the potential for licensing abuses, and clarify certain rules. (Creation of a Low Power Radio Service; Amendment of Service and Eligibility Rules for FM Broadcast Translator Stations, Sixth Report and Order, FCC 12-144).

Need: These rules are necessary to implement the provisions of the Local Community Radio Act of 2010.

Legal Basis: 47 U.S.C. 154, 303, 334, 336, and 339.

Section Number and Title:

73.807 Minimum distance separation between stations.

73.809(a) intro. Interference protection to full service FM stations.

73.810 Third Adjacent channel interference.

73.811 LPFM power and antenna height requirements.

73.825 Protection to reception of TV channel 6.

73.827 Interference to the input signals of FM translator or FM booster stations.

Brief Description: This rule helps protect the input signals of FM translator and FM booster stations from interference by low power FM stations. (Creation of a Low Power Radio Service; Amendment of Service and Eligibility Rules for FM Broadcast Translator Stations, Sixth Order on Reconsideration, FCC 13-134).

Need: This rule is necessary to prevent interference from low power FM stations and protect the signals of FM translator and booster stations.

Legal Basis: 47 U.S.C. 154, 303, 334, 336, and 339.

Section Number and Title:

73.827(a) intro., (a)(1) and (b) Interference to the input signals of FM translator or FM booster stations.

Brief Description: These rules implement the provisions of the Local Community Radio Act of 2010. They also propose changes to rules intended to promote the low power FM service's localism and diversity goals, reduce the potential for licensing abuses, and clarify certain rules. (Creation of a Low Power Radio Service; Amendment of Service and Eligibility Rules for FM Broadcast Translator Stations, Sixth Report and Order, FCC 12-144).

Need: These rules are necessary to implement the provisions of the Local Community Radio Act of 2010.

Legal Basis: 47 U.S.C. 154, 303, 334, 336, and 339.

Section Number and Title:

73.850(c) Operating schedule.

73.853(a)(3), (b)(4), and (c) Licensing requirements and service.

73.855 Ownership limits.

73.860 Cross-ownership limits.

73.870(a) intro. Processing of LPFM broadcast station applications.

73.871(c)(5), (6), and (7) Amendment of LPFM broadcast station applications.

73.872 (b), (c)(4), (d), and (e) Selection procedure for mutually exclusive LPFM applications.

73.873 LPFM license period.

Brief Description: This rule helps establish a single protection scheme for tower construction and modification near AM tower arrays and designates “moment method” computer modeling as the principal means of determining whether a nearby tower affects an AM radiation pattern. (An Inquiry Into the Commission's Policies and Rules Regarding AM Radio Service Directional Antenna Performance Verification, Third Report and Order and Second Order on Reconsideration, FCC 13-115).

Need: This rule is necessary to simplify the Commission's licensing procedures by replacing time-consuming direct measurement procedures with an efficient computer modeling methodology that is reflective of current practices.

Legal Basis: 47 U.S.C. 154, 303, 334, 336, and 339.

Section Number and Title:

73.875(c) intro. Modification of transmission systems.

Subpart H—Rules Applicable to All Broadcast Stations

Brief Description: These rules help establish a single protection scheme for tower construction and modification near AM tower arrays and designates “moment method” computer modeling as the principal means of determining whether a nearby tower affects an AM radiation pattern. (An Inquiry Into the Commission's Policies and Rules Regarding AM Radio Service Directional Antenna Performance Verification, Third Report and Order and Second Order on Reconsideration, FCC 13-115).

Need: These rules are necessary to simplify the Commission's licensing procedures by replacing time-consuming direct measurement procedures with an efficient computer modeling methodology that is reflective of current practices.

Legal Basis: 47 U.S.C. 154, 303, 334, 336, and 339.

Section Number and Title:

73.1675(c)(1) Auxiliary antennas.

73.1690(c) intro Modification of transmission systems.

Subpart J—Class A Televison Broadcast Stations

73.6025(c) Antenna system and station location.

SUBCHAPTER C—BROADCAST RADIO SERVICES

PART 74—EXPERIMENTAL RADIO, AUXILIARY, SPECIAL BROADCAST AND OTHER PROGRAM DISTRIBUTIONAL SERVICES

Subpart—General; Rules Applicable to All Services in Part 74

Brief Description: Revises scope of rules within the subpart to streamline and modernize the Commission's experimental radio rules. (Promoting Expanded Opportunities for Radio Experimentation and Market Trials under Part 5 of the Commission's Rules and Streamlining Other Related Rules 2006 Biennial Review of Telecommunications Regulations—Part 2 Administered by the Office of Engineering and Technology (OET), Report and Order, FCC 13-15).

Need: These rules are necessary to define the scope of the service defined in the subpart and implement the Commission's streamlining of the experimental radio rules.

Legal Basis: 47 U.S.C. 154, 302a, 303, 307, 309, 310, 325, 336, and 554.

Section Number and Title:

74.1 Scope.

Brief Description: Revises scope of rules within the subpart to streamline and modernize the Commission's experimental radio rules. (Promoting Expanded Opportunities for Radio Experimentation and Market Trials under Part 5 of the Commission's Rules and Streamlining Other Related Rules 2006 Biennial Review of Telecommunications Regulations—Part 2 Administered by the Office of Engineering and Technology (OET), Report and Order, FCC 13-15).

Need: These rules are necessary to define the scope of the service defined in the subpart and implement the Commission's streamlining of the experimental radio rules.

Legal Basis: 47 U.S.C. 154, 302a, 303, 307, 309, 310, 325, 336, and 554.

Section Number and Title:

74.5 intro. Cross reference to rules in other parts.

Brief Description: Revises scope of rules within the subpart to streamline and modernize the Commission's experimental radio rules. (Promoting Expanded Opportunities for Radio Experimentation and Market Trials under Part 5 of the Commission's Rules and Streamlining Other Related Rules 2006 Biennial Review of Telecommunications Regulations—Part 2 Administered by the Office of Engineering and Technology (OET), Report and Order, FCC 13-15).

Need: These rules are necessary to define the scope of the service defined in the subpart and implement the Commission's streamlining of the experimental radio rules.

Legal Basis: 47 U.S.C. 154, 302a, 303, 307, 309, 310, 325, 336, and 554.

Section Number and Title:

74.15 Station license period.

Brief Description: Revises scope of rules within the subpart to streamline and modernize the Commission's experimental radio rules. (Promoting Expanded Opportunities for Radio Experimentation and Market Trials under Part 5 of the Commission's Rules and Streamlining Other Related Rules 2006 Biennial Review of Telecommunications Regulations—Part 2 Administered by the Office of Engineering and Technology (OET), Report and Order, FCC 13-15).

Need: These rules are necessary to define the scope of the service defined in the subpart and implement the Commission's streamlining of the experimental radio rules.

Legal Basis: 47 U.S.C. 154, 302a, 303, 307, 309, 310, 325, 336, and 554.

Section Number and Title:

74.16 Temporary extension of station licenses.

74.28 Additional orders.

Subpart G—Low Power TV and Translator Stations

Brief Description: Revises rule to cross reference revised experimental radio rules. (Promoting Expanded Opportunities for Radio Experimentation and Market Trials under Part 5 of the Commission's Rules and Streamlining Other Related Rules 2006 Biennial Review of Telecommunications Regulations—Part 2 Administered by the Office of Engineering and Technology (OET), Report and Order, FCC 13-15).

Need: This rule is necessary to cross reference rules applicable to the service covered by this subpart and implement the Commission's streamlining of the experimental radio rules.

Legal Basis: 47 U.S.C. 154, 303, 307, 309, 336, and 554.

Section Number and Title:

74.780 Broadcast regulations applicable to translators and low power stations.

Subpart L—FM Broadcast Translator Stations and FM Broadcast Booster Stations

Brief Description: This rule helps establish a single protection scheme for tower construction and modification near AM tower arrays and designates “moment method” computer modeling as the principal means of determining whether a nearby tower affects an AM radiation pattern. (An Inquiry Into the Commission's Policies and Rules Regarding AM Radio Service Directional Antenna Performance Verification, Third Report and Order and Second Order on Reconsideration, FCC 13-115).

Need: This rule is necessary to simplify the Commission's licensing procedures by replacing time-consuming direct measurement procedures with an efficient computer modeling methodology that is reflective of current practices.

Legal Basis: 47 U.S.C. 154, 303, 307, 309, 336, and 554.

Section Number and Title:

74.1237(e) Antenna location.

PART 76—MULTICHANNEL VIDEO AND CABLE TELEVISION SERVICE

Subpart K—Technical Standards

Brief Description: This rule addresses cable operators ability to encrypt the basic service tier in all-digital systems, provided that those cable operators undertake certain consumer protection measures for a limited period of time in order to minimize any potential subscriber disruption. (Basic Service Tier Encryption; Compatibility Between Cable Systems and Consumer Electronics Equipment, Report and Order, FCC 12-126).

Need: This rule is necessary to protect consumers if a cable operator encrypts the basic service tier.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.630(a) Compatibility with consumer electronics equipment.

Subpart O—Competitive Access to Cable Programming

Brief Description: These rules establish policies and procedures for addressing exclusive contracts involving satellite-delivered, cable-affiliated programming on a case-by-case basis. (Revision of the Commission's Program Access Rules, Report and Order, FCC 12-123).

Need: These rules are necessary to promote competition in the video distribution market.

Legal Basis: 47 U.S.C. 151, 152, 153, 154, 301, 302, 302a, 303, 303a, 307, 308, 309, 312, 315, 317, 325, 339, 340, 341, 503, 521, 522, 531, 532, 534, 535, 536, 537, 543, 544, 544a, 545, 548, 549, 552, 554, 556, 558, 560, 561, 571, 572, and 573.

Section Number and Title:

76.1002(c)(3)(i), (ii) intro., (4) intro., and (5) intro. Specific unfair practices prohibited.

76.1003(e)(1), (j), and (m) Program access proceedings.

76.1004(b) Applicability of program access rules to common. carriers and affiliates.

Subpart S—Open Video Systems

76.1507(a)(3) and (b) Competitive access to satellite cable programming.

PART 79—ACCESSIBILITY OF VIDEO PROGRAMMING

Subpart A—Video Programming Owners, Providers, and Distributors

Brief Description: This rule implements the Twenty-First Century Communications and Video Accessibility Act of 2010 by requiring video programming distributors and video programming providers (including program owners) to make televised emergency information accessible to individuals who are blind and visually impaired. (Accessible Emergency Information, Apparatus Requirements for Emergency Information and Video Description: Implementation of the Twenty-First Century Communications and Video Accessibility Act of 2010, Report and Order and Further Notice of Proposed Rulemaking, FCC 13-45).

Need: This rule is necessary to ensure access to emergency information for individuals who are blind and visually impaired in furtherance of the Twenty-First Century Communications and Video Accessibility Act of 2010.

Legal Basis: 47 U.S.C. 151, 152(a), 154(i), 303, 307, 309, 310, 330, 544a, 613, and 617.

Section Number and Title:

79.2(b) and (c) Accessibility of programming providing emergency information.

Subpart B—Apparatus

Brief Description: These rules implements the Twenty-First Century Communications and Video Accessibility Act of 2010 by requiring the manufacturers of devices that display video programming to ensure that certain apparatus are able to make available audio description and accessible emergency information provided via the secondary audio stream. (Accessible Emergency Information, Apparatus Requirements for Emergency Information and Video Description: Implementation of the Twenty-First Century Communications and Video Accessibility Act of 2010, Report and Order, FCC 13-45).

Need: These rules are necessary to ensure access to audio description and emergency information for individuals who are blind and visually impaired in furtherance of the Twenty-First Century Communications and Video Accessibility Act of 2010.

Legal Basis: 47 U.S.C. 151, 152(a), 154(i), 303, 307, 309, 310, 330, 544a, 613, and 617.

Section Number and Title:

79.105(a),(b), and (c) Audio description and emergency information accessibility requirements for all apparatus.

79.106 Audio description and emergency information accessibility requirements for recording devices.

Brief Description: These rules modify and clarify prior Commission decisions regarding apparatus used by consumers to view video programming. (Closed Captioning of internet Protocol-Delivered Video Programming: Implementation of the Twenty-First Century Communications and Video Accessibility Act of 2010, Order on Reconsideration, FCC 13-84).

Need: This rule is necessary to ensure access to video programming for those that are deaf or hard of hearing in furtherance of the Twenty-First Century Communications and Video Accessibility Act of 2010.

Legal Basis: 47 U.S.C. 151, 152(a), 154(i), 303, 307, 309, 310, 330, 544a, 613, and 617.

Section Number and Title:

79.101(a)(2) note Closed caption decoder requirements for analog television receivers.

79.102(a)(3) note Closed caption decoder requirements for digital television receivers and converter boxes.

79.103(a) note Closed caption decoder requirements for apparatus.

79.104 (a) note Closed caption decoder requirements for recording devices.

PART 80—STATIONS IN THE MARITIME SERVICE

Subpart D—Operator Requirements

Brief Description: The part 80 rules state the conditions under which radios may be licensed and used in the maritime services, but these rules do not govern radio stations operated by agencies of the U.S. Government. Subpart D sets forth operator requirements, and section 80.151 provides for classification of operator licenses and endorsements.

Need: Section 80.151(b)(12) was added to include T. Radiotelegraph Operator Licenses as a type of license issued by the Commission and is needed on an ongoing basis to ensure this type of license is available to licensees.

Legal Basis: 47 U.S.C. 151-155, 301-609; 3 UST 3450, 3 UST 4726, 12 UST 2377.

Section Number and Title:

80.151(b)(12) Classification of operator licenses and endorsements.

Subpart H—Frequencies

Brief Description: Section 80.377 lists the frequencies designated for ship earth stations.

Need: By setting forth frequencies that are available for ship earth stations, the Commission furthers the statutory requirement to assign bands of frequencies to the various classes of stations.

Legal Basis: 47 U.S.C. 151-155, 301-609; 3 U.S.T. 3450, 3 U.S.T. 4726, 12 U.S.T. 2377.

Section Number and Title:

80.377 Frequencies for ship earth stations.

PART 87—AVIATION SERVICES

Subpart B—Applications and Licenses

Brief Description: Section 87.27 states that licenses in the aviation services will normally issued for a ten-year term.

Need: This rule implements, for this rule part, the statutory requirement that licenses for the use of channels be issued for limited periods of time.

Legal Basis: 47 U.S.C. 154, 303 and 307(e).

Section Number and Title:

87.27 License term.

Subpart C—Operating Requirements and Procedures

Brief Description: The part 87 rules state the conditions under which radio stations may be licensed and used in the aviation services, but these rules do not govern U.S. Government radio stations. Subpart C sets forth operating requirements and procedures, and section 87.87 provides classification of operator licenses and endorsements.

Need: Section 87.87(b)(4) added T. Radiotelegraph Operator Licenses as a type of license issued by the Commission under this part and is needed on an ongoing basis to ensure this type of license is available to licensees.

Legal Basis: 47 U.S.C. 154, 303, and 307(e), unless otherwise noted.

Section Number and Title:

87.87(b)(4) Classification of operator licenses and endorsements.

Subpart I—Aeronautical Enroute Stations, Aeronautical Fixed Stations, and Aircraft Data Link Land Test Stations

Brief Description: The part 87 rules state the conditions under which radio stations may be licensed and used in the aviation services, but these rules do not govern U.S. Government radio stations. Subpart I oversees aeronautical enroute stations, aeronautical fixed stations, and aircraft data link land test stations. Sections 87.285 and 87.287 focus on aircraft data link land test stations, and these sections govern the scope of service and frequencies assignable, respectively.

Need: Sections 87.285 and 87.287 are both needed on an ongoing basis to provide for the operation of aircraft data link land test stations in the public interest. Section 87.285 sets forth the scope of services, while section 87.287 indicates the assignable frequencies to aircraft data link land test stations.

Legal Basis: 47 U.S.C. 154, 303, and 307(e), unless otherwise noted.

Section Number and Title:

87.285 Scope of service.

87.287 Frequencies.

Subpart L—Aeronautical Utility Mobile Stations

Brief Description: The part 87 rules state the conditions under which radio stations may be licensed and used in the aviation services, but these rules do not govern U.S. Government radio stations. Subpart L sets forth rules for aeronautical utility mobile stations, and section 87.349 provides for assignable frequencies under these rules.

Need: Section 87.349(f) was added to section 87.349 for assignment of the 1090 MHz frequency for use by aeronautical utility mobile stations for ground vehicle identification and collision avoidance after coordination with the FAA and provides for five specific conditions, and this rule is needed on an ongoing basis.

Legal Basis: 47 U.S.C. 154, 303, and 307(e), unless otherwise noted.

Section Number and Title:

87.349 Frequencies.

Subpart Q—Stations in the Radiodetermination Service

Brief Description: The part 87 rules state the conditions under which radio stations may be licensed and used in the aviation services, but these rules do not govern U.S. Government radio stations. Subpart Q provides rules for stations in the radiodetermination service. Section 87.475 sets forth assignable frequencies under this part while section 87.483 describes and governs audio visual warning systems.

Need: Sections 87.475(b)(10)-(14) were added to provide additional frequencies for radionavigation land stations while section 87.483 was added to explain and govern audio visual warning systems, and both rules are needed on an ongoing basis.

Legal Basis: 47 U.S.C. 154, 303, and 307(e), unless otherwise noted.

Section Number and Title:

87.475 Frequencies.

87.483 Audio visual warning systems.

PART 90—PRIVATE LAND MOBILE RADIO SERVICES

Subpart A—General Information

Brief Description: These rules address permissible content under the Travelers' Information Stations (TIS) rules must continue to have a nexus to travel, an emergency, or an imminent threat of danger. The rules also define and authorize TIS, to allow the use of all Part 90 facilities, including TIS, for the transmission of “any communications related directly to the imminent safety-of-life or property,” and for emergency communications “during a period of emergency in which the normal communication facilities are disrupted as a result of hurricane, flood, earthquake or similar disaster.

Need: These rules are necessary to promote an efficient and effective TIS system in order to ensure travelers have access to emergency information relevant to their journey.

Legal Basis: 47 U.S.C. 54(i), 161, 303(g), 303(r), 332(c)(7), 1401-1473.

Section Number and Title:

90.7 Definitions

Subpart F—Radiolocation Service

Brief Description: The part 90 rules govern private land mobile radio services. Subpart F sets forth rules for radiolocation services. Section 90.103 provides for eligibility requirements and assignable frequencies for radiolocation services under this part.

Need: The revised text of section 90.103(c)(30) explains that this frequency band is shared with and is on a secondary basis to the Government Radiolocation Service, the Fixed Satellite Service in part 25, and the Citizens Broadband Radio Service in part 96 and that no new licenses for Non-Federal Radiolocation Services in this band will be issued after July 23, 2015. This rule is needed on an ongoing basis.

Legal Basis: 47 U.S.C. 154(i), 161, 303(g), 303(r), 332(c)(7), 1401-1473.

Section Number and Title:

90.103 Radiolocation service.

Subpart H—Policies Governing the Assignment of Frequencies

Brief Description: These rules provide detailed information concerning the policies under which the Commission assigns frequencies for the use of licensees under this part, frequency coordination procedures, and procedures under which licensees may cooperatively share radio facilities.

Need: The rules discuss the conditions and limitations by which authorized stations may share their station.

Legal Basis 47 U.S.C. 154(i), 161, 303(g), 303(r), 332(c)(7), 1401-1473.

Section Number and Title:

90.179 Shared use of radio stations

Subpart I—General Technical Standards

Brief Description: The part 90 rules govern private land mobile radio services. Subpart I sets forth general technical standards. Section 90.203 describes the certification required for transmitters.

Need: Section 90.203(p) is needed on an ongoing basis to provide for the certification requirements for signal boosters. 90.205 is needed on an ongoing basis for efficient and effective operations without interference.

Legal Basis: 47 U.S.C. 154(i), 161, 303(g), 303(r), 332(c)(7), 1401-1473.

Section Number and Title:

90.203 Certification required.

90.205 Power and antenna height limits

Subpart J—Non-Voice and Other Specialized Operations

Brief Description: These rules address permissible content under the Travelers' Information Stations (TIS) rules must continue to have a nexus to travel, an emergency, or an imminent threat of danger. The rules also define and authorize TIS, to allow the use of all Part 90 facilities, including TIS, for the transmission of “any communications related directly to the imminent safety-of-life or property,” and for emergency communications “during a period of emergency in which the normal communication facilities are disrupted as a result of hurricane, flood, earthquake or similar disaster.

Need: These rules are necessary to promote an efficient and effective TIS system in order to ensure travelers have access to emergency information relevant to their journey.

Legal Basis: 47 U.S.C. 4(i), 11, 303(g), 303(r), and 332(c)(7).

Section Number and Title:

90.242 Travelers' information stations.

Brief Description: Section 90.250 describes how meteor burst communications may be authorized for the use of private radio stations.

Need: This rule furthers the Commission's interests in promoting the use of the radio spectrum by setting forth the frequency bands, technical requirements, and geographic use area for this particular type of radio communication.

Legal Basis: 47 U.S.C. 154(i), 161, 303(g), 303(r), 332(c)(7), 1401-1473.

Section Number and Title:

90.250 Meteor burst communications.

Subpart N—Operating Requirements

Brief Description: The part 90 rules govern private land mobile radio services. Subpart N sets forth operating requirements. Section 90.425 requires stations licensed under this part to transmit identification in accordance with the listed procedures.

Need: Section 90.425(f) was added to provide special provisions for stations licensed under this part that are not classified as commercial mobile radio service providers under part 20 of this chapter, and the rule is needed on an ongoing basis.

Legal Basis: 47 U.S.C. 154(i), 161, 303(g), 303(r), 332(c)(7), 1401-1473.

Section Number and Title:

90.425 Station identification.

Subpart R—Regulations Governing the Licensing and Use of Frequencies in the 763-775 and 793-805 MHz Bands

Brief Description: These rules primarily address technical issues associated with the 758-769/788-799 MHz band, which is licensed to the First Responder Network Authority (FirstNet) on a nationwide basis.

Need: To set forth the regulations governing the licensing and operations of all systems operating in the 758-775 MHz and 788-805 MHz frequency bands, including eligibility, operational, planning and licensing requirements and technical standards for stations licensed in these bands.

Legal Basis: 47 U.S.C. 154(i), 161, 303(g), 303(r), 332(c)(7), 1401-1473.

Section Number and Title:

90.523 Eligibility.

90.533 Transmitting sites near the U.S./Canada or U.S./Mexico border.

90.542 Broadband transmitting power limits.

90.543 Emission limitations.

90.549 Transmitter certification.

90.555 Information exchange.

PART 101—FIXED MICROWAVE SERVICES

Subpart C—Technical Standards

Brief Description: Section 101.129 describes what a radio station applicant must determine with respect to technical considerations applicable to transmitter locations prior to filing its license application.

Need: This rule furthers the Commission's interest in managing the use of the radiofrequency spectrum as well as its statutory requirement to determine the location of individual stations.

Legal Basis: 47 U.S.C. 154, 303.

Section Number and Title:

101.129 Transmitter location.

[FR Doc. 2024-21111 Filed 9-16-24; 8:45 am]

BILLING CODE 6712-01-P